DEPARTMENT OF HEALTH AND HUMAN SERVICES

Office of the National Coordinator of Health Information Technology; American Health Information Community Confidentiality and Security Workgroup Meeting

ACTION: Announcement of meeting.

SUMMARY: This notice announces the first meeting of the American Health Information Community Confidentiality and Security Workgroup in accordance with the Federal Advisory Committee Act (Pub. L. 92-463, 5 U.S.C., App.).

DATES: August 4, 2006 from 2 p.m. to 4 p.m.

ADDRESSES: Mary C. Switzer Building (330 C Street, SW., Washington, DC 20201), Conference Room 4090.

FOR FURTHER INFORMATION CONTACT: http://www.hhs.gov/healthit/ahic.html.

SUPPLEMENTARY INFORMATION: The Confidentiality and Security Workgroup must convene in early August 2006 to begin discussion of cross-cutting issues relating to the principles of confidentiality and security in health information technology in order to meet upcoming deadlines.

The meeting will be available via internet access. Go to http://www.hhs.gov/healthit/ahic.html for additional information on the meeting.

Dated: July 20, 2006.
Judith Sparrow,
Director, American Health Information Community, Office of Programs and Coordination, Office of the National Coordinator for Health Information Technology.

[FR Doc. 06-6498 Filed 7-26-06; 8:45 am]

BILLING CODE 4150-24-M